DEPARTMENT OF STATE

[Public Notice 8277]

60-Day Notice of Proposed Information Collection: Application for a U.S. Passport

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 17, 2013.

ADDRESSES: You may submit comments by any of the following methods:

• Web: Persons with access to the Internet may use the Federal Docket Management System (FDMS) to comment on this notice by going to www.Regulations.gov. You can search for the document by entering “Public Notice 8277” in the Search bar. If necessary, use the Narrow by Agency filter option on the Results page.

• Email: PPTFormsOfficer@state.gov

• Mail: PPT Forms Officer, U.S. Department of State, 2100 Pennsylvania Avenue NW., Room 3030, Washington, DC 20037

• Fax: (202) 663-2410

• Hand Delivery or Courier: PPT Forms Officer, U.S. Department of State, 2100 Pennsylvania Avenue NW., Room 3030, Washington, DC 20037

You must include the DS form number (if applicable), information collection title, and the OMB control number in any correspondence.

FOR FURTHER INFORMATION CONTACT: Direct requests for additional information regarding the collection listed in this notice, including requests for copies of the proposed collection instrument and supporting documents, to PPT Forms Officer, U.S. Department of State, 2100 Pennsylvania Avenue NW., Room 3030, Washington, DC 20037, who may be reached on (202) 663-2457 or at PPTFormsOfficer@state.gov.

SUPPLEMENTARY INFORMATION:

• Title of Information Collection: Application for a U.S. Passport.

• OMB Control Number: 1405-0004.

• Type of Request: Revision of a Currently Approved Collection.

• Originating Office: Bureau of Consular Affairs, Passport Services, Office of Program Management and Operational Support, Program Coordination Division (CA/PPT/PMO/PC).

• Form Number: DS-11.

• Respondents: Individuals or households.

• Estimated Number of Respondents: 10,351,043 respondents per year.

• Estimated Number of Responses: 10,351,043 responses per year.

• Average Time Per Response: 1.41 hours, or 85 minutes per response.

• Total Estimated Burden Time: 14,594,971 hours per year.

• Frequency: On occasion.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The DS-11 solicits data necessary for Passport Services to issue a United States passport (book and/or card format) in the exercise of authorities granted to the Secretary of State in 22 United States Code (U.S.C.) Section 211a et seq. and Executive Order (E.O.) 11295 (August 5, 1966) for the issuance of passports to U.S. nationals.

The issuance of U.S. passports requires the determination of identity, nationality, and entitlement with reference to the provisions of Title III of the Immigration and Nationality Act (INA) (8 U.S.C. sections 1401-1504), the 14th Amendment to the Constitution of the United States, other applicable treaties and laws, and implementing regulations at 22 CFR parts 50 and 51. The specific regulations pertaining to the Application for a U.S. Passport are at 22 CFR 51.20 through 51.28.

Methodology: The information collected on the DS-11 is used to facilitate the issuance of passports to U.S. citizens and nationals. The primary purpose of soliciting the information is to establish citizenship, identity, and entitlement to the issuance of the U.S. passport or related service, and to properly administer and enforce the laws pertaining to the issuance thereof.

Passport Services collects information from U.S. citizens and non-citizen nationals when they complete and submit the Application for a U.S. Passport. Passport applicants can either download the DS-11 from the internet or obtain one from an Acceptance Facility/Passport Agency. The form must be completed and executed at an acceptance facility or passport agency, and submitted with evidence of citizenship and identity.

Additional Information: In addition to general format changes, the following content changes have been made to the form:

• Page 1 Instructions—The following heading and section were moved from page 3 to page 1 and have been revised to now read:

○ LOST OR STOLEN—You are required to submit a Form DS-64, Statement Regarding a Lost or Stolen Passport, when your valid or potentially valid U.S. Passport book or U.S. Passport card cannot be submitted with this application.

○ IN MY POSSESSION—If your most recent passport book and/or passport card was issued less than 15 years ago and you were over the age of 16 at the time of issuance, you may be eligible to use Form DS-82 to renew your passport by mail. If your most recent passport is valid and needs additional pages, you can submit your passport, form DS-4085 and the current fee.

• Page 1 Instructions—In the “Special Requirements For Children” section, “If Only One Parent Appears * * *”, the words “government-issued photo” were added between the words “parent's” and “identification”.

• Page 2 Instructions—Under the heading “1. Proof of Citizenship”, first section, the word “Country” in the last sentence has been replaced with the word “county”.

• Page 3 Instructions—Under the heading “Protect Yourself Against Identity Theft! * * *”, the statement, “For more information or to report * * *” has been revised to now read “For more information regarding reporting a lost or stolen U.S. passport book or passport card and the Form DS-64, your eligibility to submit a Form DS-82 or how to request additional visa pages, call NPIC at 1-877-487-2778 or visit travel.state.gov”.

• Page 3 Instructions—At the bottom of the page, added a new heading and section: “Special Notice to U.S. Passport Card Applicants Only”, regarding the 24 character name limit.

• Page 1 Form—In the photo box, the words “Attach a recent color photograph” have been replaced with “Attach a color photograph taken within the last six months”.

• Page 2 Form—Line Item 14 “Travel Plans” has been renumbered as Line Item 18. Also, the words “Date of Trip” have been replaced with “Departure Date”, and the words “Duration of Trip” have been replaced with “Return Date”.

• Page 2 Form—Line Item 18 “Permanent Address” has been renumbered as Line Item 19.

• Page 2 Form, under the heading, “PLEASE DO NOT WRITE BELOW THIS LINE—FOR ISSUING OFFICE ONLY”, the following changes have occurred:

○ The “checkbox” and words “Sole Parent” have been deleted.

○ Beside “Report of Birth”, the numbers “240”, “545”, and “1350” have been deleted.

○ The “DS-60” checkbox has been replaced with “IRL”.

The Department estimates that these changes will not result in an increase in the current burden time of 85 minutes.

Dated: March 19, 2013.
Brenda S. Sprague,
Deputy Assistant Secretary for Passport Services, Bureau of Consular Affairs, Department of State.

[FR Doc. 2013-09039 Filed 4-16-13; 8:45 am]

BILLING CODE 4710-06-P